DEPARTMENT OF LABOR

Employment and Training Administration

[TA-W-71,581]

Global Engine Manufacturing Alliance a Subsidiary of the Chrysler Group LLC Including On-Site Leased Workers From Premier Services and Intra Technical Services Dundee, MI; Amended Certification Regarding Eligibility To Apply for Worker Adjustment Assistance

In accordance with Section 223 of the Trade Act of 1974, as amended (“Act”), 19 U.S.C. 2273, the Department of Labor issued a Certification of Eligibility to Apply for Worker Adjustment Assistance on September 22, 2009, applicable to workers of Global Engine Manufacturing Alliance, a subsidiary of The Chrysler Group LLC, including on-site leased workers from Premier, Dundee, Michigan. The notice was published in the Federal Register on November 17, 2009 (74 FR 59254).

At the request of the State Agency, the Department reviewed the certification for workers of the subject firm. The workers are engaged in the production of 4-cylinder engines for automobiles.

The company reports that on-site leased workers from Intra Technical Services were employed on-site at the Dundee, Michigan location of Global Engine Manufacturing Alliance, a subsidiary of The Chrysler Group LLC. The Department has determined that these workers were sufficiently under the control of the subject firm to be considered leased workers.

Based on these findings, the Department is amending this certification to include workers leased from Intra Technical Services working on-site at the Dundee, Michigan location of Global Engine Manufacturing Alliance, a subsidiary of The Chrysler Group LLC.

The amended notice applicable to TA-W-71,581 is hereby issued as follows:

All workers of Global Engine Manufacturing Alliance, a subsidiary of The Chrysler Group LLC, including on-site leased workers from Premier Services and Intra Technical Services, Dundee, Michigan, who became totally or partially separated from employment on or after July 6, 2008, through September 22, 2011, and all workers in the group threatened with total or partial separation from employment on date of certification through two years from the date of certification, are eligible to apply for adjustment assistance under Chapter 2 of Title II of the Trade Act of 1974, as amended.

Signed at Washington, DC, this 13th day of January 2010.
Michael W. Jaffe,
Certifying Officer, Division of Trade Adjustment Assistance.

[FR Doc. 2010-1893 Filed 1-29-10; 8:45 am]

BILLING CODE 4510-FN-P